THE NATIONAL FOUNDATION ON THE ARTS AND THE HUMANITIES

Meetings of Humanities Panel

AGENCY: The National Endowment for the Humanities.

ACTION: Notice of meetings.

SUMMARY: Pursuant to the provisions of the Federal Advisory Committee Act (Pub. L. 92-463, as amended), notice is hereby given that the following meetings of Humanities Panels will be held at the Old Post Office, 1100 Pennsylvania Avenue, NW., Washington, DC 20506.

FOR FURTHER INFORMATION CONTACT: Heather C. Gottry, Acting Advisory Committee Management Officer, National Endowment for the Humanities, Washington, DC 20506; telephone (202) 606-8322. Hearing-impaired individuals are advised that information on this matter may be obtained by contacting the Endowment's TDD terminal on (202) 606-8282.

SUPPLEMENTARY INFORMATION: The proposed meetings are for the purpose of panel review, discussion, evaluation and recommendation on applications for financial assistance under the National Foundation on the Arts and the Humanities Act of 1965, as amended, including discussion of information given in confidence to the agency by the grant applicants. Because the proposed meetings will consider information that is likely to disclose trade secrets and commercial or financial information obtained from a person and privileged or confidential and/or information of a personal nature the disclosure of which would constitute a clearly unwarranted invasion of personal privacy, pursuant to authority granted me by the Chairman's Delegation of Authority to Close Advisory Committee meetings, dated July 19, 1993, I have determined that these meetings will be closed to the public pursuant to subsections (c) (4), and (6) of section 552b of Title 5, United States Code.

1. Date: April 1, 2008.

Time: 8:30 a.m. to 5:30 p.m.

Room: 421.

Program: This meeting will review applications for America's Historical and Cultural Organizations in Planning and Implementation Grants Program, submitted to the Division of Public Programs, at the January 23, 2008 deadline.

2. Date: April 2, 2008.

Time: 8:30 a.m. to 5 p.m.

Room: 421.

Program: This meeting will review applications for America's Media Makers in Production and Development Grants Program, submitted to the Division of Public Programs, at the January 23, 2008 deadline.

3. Date: April 7, 2008.

Time: 8:30 a.m. to 5:30 p.m.

Room: 421.

Program: This meeting will review applications for America's Historical and Cultural Organizations in Planning and Implementation Grants Program, submitted to the Division of Public Programs, at the January 23, 2008 deadline.

4. Date: April 9, 2008.

Time: 8:30 a.m. to 5:30 p.m.

Room: 421.

Program: This meeting will review applications for Interpreting America's Historic Places in Planning and Implementation Grants Program, submitted to the Division of Public Programs, at the January 23, 2008 deadline.

5. Date: April 10, 2008.

Time: 9 a.m. to 5:30 p.m.

Room: 415.

Program: This meeting will review applications for We the People Challenge Grants, submitted to the Office of Challenge Grants, at the February 5, 2008 deadline.

6. Date: April 14, 2008.

Time: 8:30 p.m. to 5:30 p.m.

Room: 421.

Program: This meeting will review applications for America's Historical and Cultural Organizations in Planning and Implementation Grants Program, submitted to the Division of Public Programs, at the January 23, 2008 deadline.

7. Date: April 15, 2008.

Time: 8:30 a.m. to 5:30 p.m.

Room: 421.

Program: This meeting will review applications for America's Media Makers in Production and Development Grants Program, submitted to the Division of Public Programs, at the January 23, 2008 deadline.

8. Date: April 17, 2008.

Time: 8:30 a.m. to 5:30 p.m.

Room: 421.

Program: This meeting will review applications for Interpreting America's Historic Places in Planning and Implementation Grants Program, submitted to the Division of Public Programs, at the January 23, 2008 deadline.

9. Date: April 22, 2008.

Time: 9 a.m. to 5 p.m.

Room: 315.

Program: This meeting will review applications for Summer Seminars and Institutes for College and University Teachers, submitted to the Division of Education Programs, at the March 3, 2008 deadline.

10. Date: April 23, 2008.

Time: 9 a.m. to 5 p.m.

Room: 315.

Program: This meeting will review applications for Summer Seminars and Institutes for School Teachers, submitted to the Division of Education Programs, at the March 3, 2008 deadline.

11. Date: April 24, 2008.

Time: 9 a.m. to 5 p.m.

Room: 315.

Program: This meeting will review applications for Summer Seminars and Institutes for School Teachers, submitted to the Division of Education Programs, at the March 3, 2008 deadline.

12. Date: April 28, 2008.

Time: 9 a.m. to 5 p.m.

Room: 315.

Program: This meeting will review applications for Summer Seminars and Institutes for College and University Teachers, submitted to the Division of Education Programs, at the March 3, 2008 deadline.

13. Date: April 29, 2008.

Time: 9 a.m. to 5 p.m.

Room: 315.

Program: This meeting will review applications for Summer Seminars and Institutes for School Teachers, submitted to the Division of Education Programs, at the March 3, 2008 deadline.

14. Date: April 30, 2008.

Time: 9 a.m. to 5 p.m.

Room: 315.

Program: This meeting will review applications for Summer Seminars and Institutes for College and University Teachers, submitted to the Division of Education Programs, at the March 3, 2008 deadline.

Heather C. Gottry,
Acting Advisory Committee Management Officer.

[FR Doc. E8-5363 Filed 3-17-08; 8:45 am]

BILLING CODE 7536-01-P